DEPARTMENT OF VETERANS AFFAIRS

[OMB Control No. 2900-0641]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to conduct a study of war related illnesses and post-deployment health issues.

DATES: Written comments and recommendations on the proposed collection of information should be received on or before January 12, 2004.

ADDRESSES: Submit written comments on the collection of information to Ann W. Bickoff, Veterans Health Administration (193B1), Department of Veterans Affairs, 810 Vermont Avenue, NW., Washington, DC 20420 or e-mail ann.bickoff@mail.va.gov. Please refer to “OMB Control No. 2900-0641 in any correspondence.

FOR FURTHER INFORMATION CONTACT: Ann W. Bickoff (202) 273-8310 or FAX (202) 273-9381. These are not toll-free numbers.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Study of War Related Illnesses and Post-Deployment Health Issues, VA Form 10-21060(NR).

OMB Control Number: 2900-0641.

Type of Review: Extension of a currently approved collection.

Abstract: VA has established the War-Related Illness and Injury Study Centers for war-related illnesses and post-development health issues. In order to develop a program of risk communication activities, VA must conduct a survey to gather information of sufficient scope and breadth to support the development of a risk communication strategy. A risk communication strategy will serve as a guide that clearly delineates the needs and requirement of the target audience for risk communication activities. The survey will be used to assess:

(1) The variety and prevalence of health conditions experienced by veterans of Vietnam, the Persian Gulf, and Bosnia-Kosovo and the perception of the extent that they are related to military service in a theater of operations;

(2) by region of deployment, the most frequently mentioned environmental exposures and medical countermeasures, and the level of concern of veterans regarding the perceived health impact of these exposures;

(3) which health problems, symptoms, and exposures veterans most want to receive information about; and to

(4) query veterans regarding their perception of the most desirable medium for receiving health risk communications and the most appropriate/trustworthy representatives to deliver such messages.

Fulfillment of the survey will facilitate the development of risk communication programs that will effectively provide accurate and timely information regarding health risks that veterans may experience as a consequence of deployment related environmental exposures.

Affected Public: Individuals or households.

Estimated Annual Burden: 2,625 hours.

Estimated Average Burden Per Respondent: 45 minutes.

Frequency of Response: One time.

Estimated Number of Respondents: 3,500.

Dated: November 3, 2003.
By direction of the Secretary:
Jacqueline Parks,
IT Specialist, Records Management Service.

[FR Doc. 03-28368 Filed 11-12-03; 8:45 am]

BILLING CODE 8320-01-P